DEPARTMENT OF JUSTICE

Antitrust Division

Notice Pursuant to the National Cooperative Research and Production Act of 1993—ASTM International

Notice is hereby given that, on September 14, 2004, pursuant to section 6(a) of the National Cooperative Research and Production Act of 1993, 15 U.S.C. 4301 et seq. (“the Act”), ASTM International (“ASTM”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: ASTM International, West Conshohocken, PA. The nature and scope of ASTM's standards development activities are: ASTM International's Interlaboratory Crosscheck Programs provide participating laboratories with a statistical quality assurance (SQA) tool, enabling them to compare their performance in the use of ASTM methods against other laboratories worldwide. ASTM Committee D02 on Petroleum Products and Lubricants sponsors the programs and more than 600 published standards.

For additional information, please contact Thomas B. O'Brien, Jr., General Counsel, at the above address, telephone # (610) 832-9597, e-mail address tobrien@astm.org.

Dorothy B. Fountain,
Deputy Director of Operations, Antitrust Division.

[FR Doc. 04-23509 Filed 10-20-04; 8:45 am]

BILLING CODE 4410-11-M